DEPARTMENT OF HEALTH AND HUMAN SERVICES

Centers for Disease Control and Prevention

[30Day-14-14SR]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

A Professional Development Needs Assessment to Improve Implementation of HIV/STD, Teen Pregnancy Prevention Services—New—National Center for HIV/AIDS, Viral Hepatitis, STD, and TB Prevention (NCHHSTP), Centers for Disease Control and Prevention (CDC).

Background and Brief Description

In 2010, young people aged 13-24 years accounted for 26% of all new HIV infections in the United States. Nearly half of the 19 million new sexually transmitted diseases (STD) reported each year are among young people aged 15-24 years. Young people who share certain demographic characteristics are disproportionately affected by HIV infection and other STD. Black and Latino young men who have sex with men (YMSM), homeless youth, and youth enrolled in alternative schools are particularly vulnerable.

The Nation's schools can play a critical role in addressing these epidemics. After the family, schools are one of the primary institutions responsible for the development of young people.

To address these needs and disparities, the National Center for HIV/AIDS, Viral Hepatitis, STD, and TB Prevention, Division of Adolescent and School Health (DASH) through Funding Opportunity Announcement (FOA) PS-13-1308, is funding 19 state education agencies (SEA) and 17 local education agencies (LEA) to do HIV/STD teen pregnancy prevention in the education setting. Under the same cooperative agreement six Non-Governmental organizations (NGOs) are being funded to provide professional development, training and technical assistance to these 36 agencies. The purpose of this project is to assess the capacity building assistance (CBA) needs of CDC-funded local and state educational agencies (LEA\SEA) and NGO to develop a “Training Plan for Professional Development (PD)” to address those needs. The information will be used to inform the development of PD Plans to improve CDC grantees' program processes and operations in the major approach areas: Exemplary Sexual Health Education, Sexual Health Services and Safe and Supportive Environments and Policy. In addition, a contractor is being funded to provide assistance with the development and offering of effective and efficient professional development training and technical assistance.

This is a complex FOA with multiple approaches. SEA and LEA will be providing professional development training and technical assistance to school districts and schools. Time is very limited to access school personnel and it is critical that this training and technical assistance be provided in the most effective and efficient manner. In addition, NGO, as providers of professional development training and technical assistance to SEA and LEA may also need assistance with meeting those objectives effectively and efficiently. To meet these needs, DASH has funded a contractor, ETR, through contract # 200-2013-F-57593 to develop a training plan designed to raise the capacity of all funded agencies in the area of professional development. As part of this contract, a needs assessment is required to gauge the skill level and needs of the funded agencies. The contractor is charged with conducting an organizational needs assessment so that a plan can be developed for NGO and the contractor to tailor their training and technical assistance activities to the specific needs of the service providers (SEA/LEA).

Findings from this proposed assessment will be used by ETR, funded NGOs, and CDC-DASH to ensure that professional development training and technical assistance is provided based on current theory on professional development and in the most effective and efficient manner. DASH will be able to refine their approach to conceptualizing and providing professional development training and technical assistance to all grantees in the most cost-effective manner possible.

The SEA/LEA/NGO organizational needs assessment tool will be used to assess the capacity of the 36 SEA/LEA agencies and 6 NGOs.

There are no costs to the respondents other than their time. The total estimated annual burden hours are 42.

Estimate of Annualized Burden
Type of respondents | Form name | Number of respondents | Number of responses per respondent | Average burden per response (in hours)
SEA/LEA Project Coordinator | SEA/LEA/NGO Needs Assessment | 36 | 1 | 1
NGO | SEA/LEA/NGO Needs Assessment | 6 | 1 | 1

Leroy A. Richardson,
Chief, Information Collection Review Office, Office of Scientific Integrity, Office of the Associate Director for Science, Office of the Director, Centers for Disease Control and Prevention.

[FR Doc. 2014-21885 Filed 9-12-14; 8:45 am]

BILLING CODE 4163-18-P